DEPARTMENT OF ENERGY

Federal Energy Regulatory Commission

[Docket No. EG01-109-000, et al.]

Midwest Electric Power, Inc., et al.; Electric Rate and Corporate Regulation Filings

February 8, 2001.

Take notice that the following filings have been made with the Commission:

1. Midwest Electric Power, Inc.

[Docket No. EG01-109-000]

Take notice that on February 2, 2001, Midwest Electric Power, Inc. (MEP), 2100 Portland Road, P.O. Box 355, Joppa, IL 62953 filed with the Federal Energy Regulatory Commission an application for determination of continued exempt wholesale generator status pursuant to part 365 of the Commission's regulations.

MEP is a wholly-owned subsidiary of Electric Energy, Inc. (EEInc.), which owns and operates a coal-fired generating plant in Joppa, IL. MEP owns and/or operates combustion turbines with a total generating capacity of approximately 260 MW at the site of the existing EEInc. generating facilities. All of the capacity and energy available from those units is being sold at wholesale.

Comment date: March 1, 2001, in accordance with Standard Paragraph E at the end of this notice. The Commission will limit its consideration of comments to those that concern the adequacy or accuracy of the application.

2. Freestone Power Generation, L.P.

[Docket No. EG01-110-000]

Take notice that on February 2, 2001, Freestone Power Generation, L.P. (Freestone) filed with the Federal Energy Regulatory Commission, an application for determination of exempt wholesale generator status pursuant to part 365 of the Commission's regulations.

Freestone, a Texas limited partnership, proposed to own and operate an electric generating facility and sell the output at wholesale to electric utilities, an affiliated power marketer and other purchasers. The facility is a natural gas-fired, combined cycle generating facility, which is under construction near Fairfield, Texas.

Comment date: March 1, 2001, in accordance with Standard Paragraph E at the end of this notice. The Commission will limit its consideration of comments to those that concern the adequacy or accuracy of the application.

3. AES Wolf Hollow, L.P.

[Docket No. EG01-111-000]

Take notice that on February 2, 2001, AES Wolf Hollow, L.P. (Applicant), 1301 Capital of Texas Highway South, Suite A-302, Austin, Texas 78746, filed with the Federal Energy Regulatory Commission, an application for determination of exempt wholesale generator status pursuant to Part 365 of the Commission's regulations.

Applicant will own an approximately 730 MW electric generating facility located in Hood County, Texas. The Facility's electricity will be sold exclusively at wholesale.

Comment date: March 1, 2001, in accordance with Standard Paragraph E at the end of this notice. The Commission will limit its consideration of comments to those that concern the adequacy or accuracy of the application.

4. Dominion Nuclear Connecticut, Inc.

[Docket No. EG01-112-000]

Take notice that on February 2, 2001, Dominion Nuclear Connecticut, Inc. (DNC) filed with the Federal Energy Regulatory Commission an application for determination of exempt wholesale generator status pursuant to Part 365 of the Commission's regulations. DNC is an indirect wholly-owned subsidiary of Dominion Energy, Inc., which is, in turn, a wholly-owned subsidiary of Dominion Resources, Inc. (Dominion), a Virginia corporation. Dominion is a registered holding company under the Public Utility Holding Company Act of 1935 (1935 Act).

DNC will acquire, own and operate the Millstone Nuclear Power Station located in Waterford, Connecticut (the Facility). The Facility consists of Millstone Unit 1, a 660-MW reactor that was retired from service in July 1998 and is being decommissioned; Millstone Unit 2, an operating 875-MW reactor; and 93.47% of the ownership interests in Millstone Unit 3, an operating 1,154-MW reactor.

Comment date: March 1, 2001, in accordance with Standard Paragraph E at the end of this notice. The Commission will limit its consideration of comments to those that concern the adequacy or accuracy of the application.

5. Dominion Nuclear Holdings, Inc.

[Docket No. EG01-113-000]

Take notice that on February 2, 2001, Dominion Nuclear Holdings, Inc. (DNH) filed with the Federal Energy Regulatory Commission an application for determination of exempt wholesale generator status pursuant to Part 365 of the Commission's regulations. DNH is an indirect wholly-owned subsidiary of Dominion Energy, Inc., which is, in turn, a wholly-owned subsidiary of Dominion Resources, Inc. (Dominion), a Virginia corporation. Dominion is a registered holding company under the Public Utility Holding Company Act of 1935 (1935 Act).

DNH owns 5% of the voting securities of Dominion Nuclear Marketing III, L.L.C. (DMN III). An affiliate of DNM III, Dominion Nuclear Connecticut, Inc. (DNC), will acquire, own and operate the Millstone Nuclear Power Station located in Waterford, Connecticut (the Facility). The Facility consists of Millstone Unit 1, a 660-MW reactor that was retired from service in July 1998 and is being decommissioned; Millstone Unit 2, an operating 875-MW reactor; and 93.47% of the ownership interests in Millstone Unit 3, an operating 1,154-MW reactor. DNM III will purchase from DNC, and resell at wholesale, a portion of the power generated by the Facility.

Comment date: March 1, 2001, in accordance with Standard Paragraph E at the end of this notice. The Commission will limit its consideration of comments to those that concern the adequacy or accuracy of the application.

6. Dominion Nuclear, Inc.

[Docket No. EG01-114-000]

Take notice that on February 2, 2001, Dominion Nuclear, Inc. (DNI) filed with the Federal Energy Regulatory Commission an application for determination of exempt wholesale generator status pursuant to Part 365 of the Commission's regulations.

DNI is a wholly-owned subsidiary of Dominion Energy, Inc., which is, in turn, a wholly-owned subsidiary of Dominion Resources, Inc. (Dominion), a Virginia corporation. Dominion is a registered holding company under the Public Utility Holding Company Act of 1935 (1935 Act).

Through its ownership of Dominion Nuclear Marketing I, Inc. (DNM I), Dominion Nuclear Marketing II, Inc. (DNM II), Dominion Marketing III, L.L.C. (DNM III) and Dominion Nuclear Holdings, Inc. (DNH), DNI indirectly owns Dominion Nuclear Connecticut, Inc. (DNC). DNC will acquire, own and operate the Millstone Nuclear Power Station located in Waterford, Connecticut (the Facility). The Facility consists of Millstone Unit 1, a 660-MW reactor that was retired from service in July 1998 and is being decommissioned; Millstone Unit 2, an operating 875-MW reactor; and 93.47% of the ownership interests in Millstone Unit 3, an operating 1,154-MW reactor. Each of DNM I, DNM II and DNM III will purchase from DNC, and resell at wholesale, a portion of the power generated from the Facility.

Comment date: March 1, 2001, in accordance with Standard Paragraph E at the end of this notice. The Commission will limit its consideration of comments to those that concern the adequacy or accuracy of the application.

7. Dominion Nuclear Marketing I, Inc.

[Docket No. EG01-115-000]

Take notice that on February 2, 2001, Dominion Nuclear Marketing I, Inc. (DNM I) filed with the Federal Energy Regulatory Commission an application for determination of exempt wholesale generator status pursuant to Part 365 of the Commission's regulations.

DNM I is an indirect wholly-owned subsidiary of Dominion Energy, Inc., which is, in turn, a wholly-owned subsidiary of Dominion Resources, Inc. (Dominion), a Virginia corporation. Dominion is a registered holding company under the Public Utility Holding Company Act of 1935 (1935 Act).

DNM I owns 25% of its affiliate, Dominion Nuclear Connecticut, Inc. (DNC), which will acquire, own and operate the Millstone Nuclear Power Station located in Waterford, Connecticut (the Facility). The Facility consists of Millstone Unit 1, a 660-MW reactor that was retired from service in July 1998 and is being decommissioned; Millstone Unit 2, an operating 875-MW reactor; and 93.47% of the ownership interests in Millstone Unit 3, an operating 1,154-MW reactor. DNM I will purchase from DNC, and resell at wholesale, a portion of the power generated by the Facility.

Comment date: March 1, 2001, in accordance with Standard Paragraph E at the end of this notice. The Commission will limit its consideration of comments to those that concern the adequacy or accuracy of the application.

8. Dominion Nuclear Marketing II, Inc.

[Docket No. EG01-116-000]

Take notice that on February 2, 2001, Dominion Nuclear Marketing II, Inc. (DNM II) filed with the Federal Energy Regulatory Commission an application for determination of exempt wholesale generator status pursuant to Part 365 of the Commission's regulations.

DNM II is an indirect wholly-owned subsidiary of Dominion Energy, Inc., which is, in turn, a wholly-owned subsidiary of Dominion Resources, Inc. (Dominion), a Virginia corporation. Dominion is a registered holding company under the Public Utility Holding Company Act of 1935 (1935 Act).

DNM II owns 70% of its affiliate, Dominion Nuclear Connecticut, Inc. (DNC), which will acquire, own and operate the Millstone Nuclear Power Station located in Waterford, Connecticut (the Facility). The Facility consists of Millstone Unit 1, a 660-MW reactor that was retired from service in July 1998 and is being decommissioned; Millstone Unit 2, an operating 875-MW reactor; and 93.47% of the ownership interests in Millstone Unit 3, an operating 1,154-MW reactor. DNM II will purchase from DNC, and resell at wholesale, a portion of the power generated by the Facility.

Comment date: March 1, 2001, in accordance with Standard Paragraph E at the end of this notice. The Commission will limit its consideration of comments to those that concern the adequacy or accuracy of the application.

9. Dominion Nuclear Marketing III, L.L.C.

[Docket No. EG01-117-000]

Take notice that on February 2, 2001, Dominion Nuclear Marketing III, L.L.C. (DNM III) filed with the Federal Energy Regulatory Commission an application for determination of exempt wholesale generator status pursuant to Part 365 of the Commission's regulations.

DNM III is an indirect wholly-owned subsidiary of Dominion Energy, Inc., which is, in turn, a wholly-owned subsidiary of Dominion Resources, Inc. (Dominion), a Virginia corporation. Dominion is a registered holding company under the Public Utility Holding Company Act of 1935 (1935 Act).

DNM III owns 5% of the voting securities of its affiliate, Dominion Nuclear Connecticut, Inc. (DNC), which will acquire, own and operate the Millstone Nuclear Power Station located in Waterford, Connecticut (the Facility). The Facility consists of Millstone Unit 1, a 660-MW reactor that was retired from service in July 1998 and is being decommissioned; Millstone Unit 2, an operating 875-MW reactor; and 93.47% of the ownership interests in Millstone Unit 3, an operating 1,154-MW reactor. DNM III will purchase from DNC, and resell at wholesale, a portion of the power generated by the Facility.

Comment date: March 1, 2001, in accordance with Standard Paragraph E at the end of this notice. The Commission will limit its consideration of comments to those that concern the adequacy or accuracy of the application.

10. Rumford Power Associates L.P., Tiverton Power Associates L.P.

[Docket No. EL01-31-000]

Take notice that on January 29, 2001, Rumford Power Associates L.P. and Tiverton Power Associates L.P. (Applicants) filed with the Federal Energy Regulatory Commission a petition for declaratory order disclaiming jurisdiction.

The Applicants are seeking a disclaimer of jurisdiction in connection with a sale leaseback financing involving the Rumford and Tiverton Facilities, two 265-MW natural gas-fired electric generation facilities located in Rumford, Maine, and Tiverton, Rhode Island, respectively.

Comment date: February 28, 2001, in accordance with Standard Paragraph E at the end of this notice.

11. Arizona Public Service Company

[Docket No. ER01-173-000]

Take notice that on February 5, 2001, Arizona Public Service Company tendered for filing a letter in compliance with the Commission's November 30, 2000, Order.

A copy of this filing has been served on the all parties of the official service list.

Comment date: February 26, 2001, in accordance with Standard Paragraph E at the end of this notice.

12. Duke Energy Audrain, LLC

[Docket No. ER01-884-000]

Take notice that on February 5, 2001, Duke Energy Audrain, LLC (Duke Audrain), tendered for filing request for withdrawal of its January 3, 2001 application for an order accepting rates for filing, determining rates to be just and reasonable and granting certain waivers and pre-approvals.

Comment date: February 26, 2001, in accordance with Standard Paragraph E at the end of this notice.

13. American Transmission Systems, Inc.

[Docket No. ER01-1170-000]

Take notice that on February 5, 2001, American Transmission Systems, Inc. (ATSI), tendered for filing a Generator Interconnection and Operating Agreement to provide a connection of electric generating facilities owned and operated by Troy Energy, L.L.C., to the ATSI Transmission System and for coordination of the operation and maintenance of those facilities with ATSI.

The proposed effective date for the Generator Interconnection and Operating Agreement is January 6, 2001.

Copies of this filing have been served on the Ohio and Pennsylvania utility commissions and the generator.

Comment date: February 26, 2001, in accordance with Standard Paragraph E at the end of this notice.

14. Cinergy Services, Inc.

[Docket No. ER01-1171-000]

Take notice that on February 5, 2001, Cinergy Services, Inc. (Cinergy), tendered for filing a Notice of Assignment from Public Service Electric and Gas Company to PSEG Energy Resources & Trade LLC.

Cinergy respectfully requests waiver of notice to permit the Notice of Assignment to be made effective as of the date of the Notice of Assignment.

A copy of the filing was served upon PSEG Energy Resources & Trade LLC.

Comment date: February 26, 2001, in accordance with Standard Paragraph E at the end of this notice.

15. Cabrillo Power I LLC, Cabrillo Power II LLC

[Docket No. ER01-1173-000]

Take notice that on February 5, 2001, Cabrillo Power I LLC and Cabrillo Power II LLC (Cabrillo I & II), tendered for filing their annual update filing governing Reliability Must Run (RMR) services provided by their power plants to the California Independent System Operator Corporation (ISO). Cabrillo I & II's filing includes an agreed upon one-year extension of the RMR Agreements, and provides updates to various Schedules appended to the RMR Agreements related to Contract Service Limits, Fixed Option Payment Factors, Target Available Hours, and pre-paid Start-up Charges under the RMR Service Agreements.

Cabrillo I & II request an effective date of January 1, 2001.

Copies of this filing have been served upon the ISO, the California Electricity Oversight Board, the California Public Utilities Commission and the San Diego Gas & Electric Company.

Comment date: February 26, 2001, in accordance with Standard Paragraph E at the end of this notice.

16. Hunlock Creek Energy Ventures G.P.

[Docket No. ER01-1174-000]

Take notice that on February 5, 2001, Hunlock Creek Energy Ventures G.P. (Energy Ventures), tendered for filing Service Agreements for wholesale power sales transactions under Energy Ventures' FERC Electric Tariff Original Volume No.1, between Energy Ventures and UGI Development Company and Allegheny Energy Supply Company, LLC.

Energy Ventures requests an effective date of April 6, 2001, for the Service Agreements.

Comment date: February 26, 2001, in accordance with Standard Paragraph E at the end of this notice.

17. UGI Utilities, Inc.

[Docket No. ER01-1175-000]

Take notice that on February 5, 2001, UGI Utilities, Inc., tendered for filing an Interconnection Agreement with Hunlock Creek Energy Ventures G.P., designated as Service Agreement No. 557 under PJM Interconnection L.L.C.”s FERC Electric Tariff Third Revised Volume No. 1.

UGI Utilities, Inc., requests an effective date of December 9, 2000.

Comment date: February 26, 2001, in accordance with Standard Paragraph E at the end of this notice.

18. Potomac Electric Power Company

[Docket No. ER01-1189-000]

Take notice that on February 1, 2001, Potomac Electric Power Company (Pepco), tendered for filing notice of termination of the Agreement for Sale and Purchase of Electric Power and Energy with Southern Maryland Electric Cooperative, Inc.

Comment date: February 22, 2001, in accordance with Standard Paragraph E at the end of this notice.

19. Mirant Delta, LLC, Mirant Potrero, LLC, Complainants, v. California Independent System Operator Corporation, Respondent

[Docket No. EL01-35-000]

Take notice that on February 6, 2001, Mirant Delta, LLC and Mirant Potrero, LLC (collectively, Mirant), tendered for filing a complaint alleging that the California Independent System Operator violated the Federal Power Act and prior Commission orders through seating a non-independent governance board and failure to adequately pursue payments from market participants. Mirant requested fast track processing for this complaint.

Copies of the filing were served upon the ISO, its counsel, the California Public Utilities Commission, and other interested parties.

Comment date: February 26, 2001, in accordance with Standard Paragraph E at the end of this notice. Answers to the complaint shall also be filed on or before February 26, 2001.

Standard Paragraphs

E. Any person desiring to be heard or to protest such filing should file a motion to intervene or protest with the Federal Energy Regulatory Commission, 888 First Street, NE., Washington, DC. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 01-3805 Filed 2-14-01; 8:45 am]

BILLING CODE 6717-01-P